FEDERAL COMMUNICATIONS COMMISSION

47 CFR Part 73

[DA 03-3854, MB Docket No. 02-222, RM-10491]

Digital Television Broadcast Service; Spokane, WA

AGENCY: Federal Communications Commission.

ACTION: Proposed rule.

SUMMARY: The Commission, by this document, dismisses a petition for rule making filed by KSKN Television, Inc., requesting the substitution of DTV channel 48 for station KSKN-TV's assigned DTV channel 36. See 67 FR 52923, August 14, 2002. With this action, this proceeding is terminated.

FOR FURTHER INFORMATION CONTACT: Pam Blumenthal, Media Bureau, (202) 418-1600.

SUPPLEMENTARY INFORMATION: This is a synopsis of the Commission's Report and Order, MB Docket No. 02-222, adopted December 2, 2003, and released December 8, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Federal Communications Commission.
Barbara A. Kreisman,
Chief, Video Division, Media Bureau.

[FR Doc. 03-30881 Filed 12-12-03; 8:45 am]

BILLING CODE 6712-01-U